DEPARTMENT OF COMMERCE

National Institute of Standards and Technology

Presentation of Final Conventional Conformance Test Criteria and Common Air Interface (CAI) Features/Functionalities Under Test in the Project 25 Compliance Assessment Program and Meeting To Seek Comment on Conventional Conformance Tests for Inclusion in the Program

AGENCY: National Institute of Standards and Technology (NIST), Department of Commerce.

ACTION: Notice of Public Meeting and Request for Comments.

SUMMARY: The U.S. Department of Commerce's (DOC) National Institute of Standards and Technology (NIST), Law Enforcement Standards Office (OLES), in partnership with the U.S. Department of Homeland Security (DHS) Office for Interoperability and Compatibility (OIC), will hold a public meeting on Thursday, March 15, 2012 at 1 p.m. Mountain Time, via teleconference. The purpose of the meeting is to present the final criteria for assessing the suitability of P25 Compliance Assessment Program (CAP) conventional conformance tests, as well as the final, prioritized list of features and functionalities that will require conformance testing in the P25 CAP.

DATES: The meeting will be held via teleconference from 1 p.m.-3 p.m. Mountain Time on Thursday, March 15, 2012. Members of the public wishing to attend the meeting must register by 5 p.m. Mountain Time on Monday, March 12, 2012. Please see registration instructions in the ADDRESSES section below. In addition, comments regarding the topics and material covered during the meeting will be accepted until 5 p.m. Mountain Time on Monday, April 30, 2012.

ADDRESSES: Members of the public wishing to attend the meeting must register by 5 p.m. Mountain Time on Monday, March 12, 2012 by sending an email request to Dereck Orr at dereck.orr@nist.gov or via phone at 303-497-5400. To present comments orally at the meeting and to submit written comments, please see instructions in the SUPPLEMENTARY INFORMATION SECTION below. The draft conformance tests to be discussed at the meeting may be found at: http://www.pscr.gov/outreach/safecom/p25_cap/downloads/downloads.php.

FOR FURTHER INFORMATION CONTACT: Dereck Orr, Department of Commerce, NIST, 300 Broadway St., Boulder, CO 80305. Telephone: (303) 497-5400. Email: dereck.orr@nist.gov. More information about DHS/OIC can be found at http://www.safecomprogram.gov.

SUPPLEMENTARY INFORMATION: Emergency responders—emergency medical technicians, fire personnel, and law enforcement officers—need to seamlessly exchange communications across disciplines and jurisdictions in order to successfully respond to day-to-day incidents and large-scale emergencies. P25 focuses on developing standards that allow radios and other components to interoperate, regardless of the manufacturer. In turn, these standards enable emergency responders to seamlessly exchange critical communications with other disciplines and jurisdictions.

An initial goal of P25 is to specify formal standards for interfaces between the components of a land mobile radio (LMR) system. LMR systems are commonly used by emergency responders in portable handheld and mobile vehicle-mounted devices. Although formal standards are being developed, no process is currently in place to confirm that LMR equipment advertised as P25-compliant meets all aspects of P25 standards.

To address discrepancies between P25 standards and industry equipment, DHS and NIST established the P25 CAP. The P25 CAP is a partnership between the DHS/OIC, NIST, industry, and the emergency response community.

The P25 CAP provides an independent process for evaluating P25 equipment for standards compliance and interoperability across manufacturers. By providing manufacturers with a method to consistently test their equipment for compliance with P25 standards and consistently report the results of such testing, the P25 CAP provides emergency response officials with increased confidence that their land mobile radio equipment adheres to the P25 standards.

The P25 CAP requires test laboratories to demonstrate their competence through a rigorous and objective assessment process. Such a process promotes the user community's confidence in, and acceptance of, test results from DHS-recognized laboratories. All equipment suppliers that participate in the P25 CAP must use recognized laboratories to conduct performance, conformance, and interoperability tests on their products. P25 equipment suppliers voluntarily participating in the P25 CAP will release Summary Test Reports and Suppliers' Declarations of Compliance based on testing from laboratories recognized by DHS.

Created by DHS/OIC, Compliance Assessment Bulletins (CABs) describe how the P25 CAP operates and address issues related to the program. The scope of a CAB can range from policy to guidance, covering issues such as specific test standards to be used for a particular P25 interface, or P25 LMR Request for Proposal guidance.

The purpose of this notice and related meeting is to present the final requirements for CAI conventional conformance tests for inclusion in the P25 CAP.

The final list of criteria to be used for assessing a CAI conventional conformance test's suitability for inclusion in the P25 CAP is below:

• Conformance tests should limit devices in the test environment to the device under test and appropriate, validated test equipment (i.e., non-products);

• All packet types should be tested that are relevant to the functionality under test;

• All call/message types tested should be relevant to the functionality under test;

• Packet/message order should be checked relevant to the functionality under test;

• All information and reserved fields should be tested within message packets relevant to the functionality under test;

• For all information fields relevant to the feature under test, there should be a linearly independent set of values used across the entire allowable range including special meaning or reserved values;

• Where behavior of a product is specified for parameter values outside of the normal or permissible range, those values should be tested. Where behavior is not specified, explicit pass/fail criteria should be included;

• Timing between subsequent packets should be identified in cases where, if not within defined parameters, the test or the anticipated response would result in inconsistent or erroneous test results;

• All of the different combinations of status bits should be tested where relevant to a feature under test;

• The test should define the detailed procedural steps and expected results necessary for a test operator to perform the test consistently across multiple laboratories;

• The test procedure should accommodate evaluation of a test article's behavior where multiple defined responses are possible;

• If capable, each unit under test should perform the roles of both transmitter and receiver during the test;

• The test should provide definitive predictive outcomes (behaviors) for all articles under test.

Through this notice, NIST is also presenting this prioritized list of features and functionalities that will require testing conformance in the P25 CAP:

1. Conventional Squelch*

2. Emergency alarm

3. Emergency group voice call

4. Group voice call

5. Radio unit monitoring

6. Transport of Talking Party Identification*

7. Late Entry

8. Location Services

9. Radio unit inhibit/uninhibit

10. Unaddressed voice call

11. Encryption

12. Over The Air Rekeying (OTAR)

13. Emergency Cancel

14. All Call

* Note that Conventional Squelch and Transport of Talking Party Identification tests, included in the original list of features and functionalities, have been rolled into other tests as appropriate.

At the meeting on Thursday, March 15, 2012, NIST will solicit input on the two draft conformance tests it has developed for inclusion in the P25 CAP. NIST has developed tests for Group Voice Call and Radio Unit Monitoring. These tests can be found at: http://www.pscr.gov/outreach/safecom/p25_cap/downloads/downloads.php. NIST will hear comment on these tests at the March 15 meeting and will continue to receive written comments until 5 p.m. Mountain Time on Monday, April 30, 2012.

In addition to the two tests already developed, NIST is in the process of developing conformance tests for the following features and functionalities:

• Emergency Alarm

• Emergency Group Voice Call

• Unaddressed Voice Call

• Emergency Cancel

• All Call

NIST is also seeking comments, suggestions, example tests that can be leveraged or new tests for the following list of features:

• Late Entry

• Location Services

• Radio Unit Inhibit/Uninhibit

• Encryption

• Over the Air Rekeying (OTAR)

More information about the P25 CAP is available at http://www.safecomprogram.gov. More information about NIST/OLES can be found at http://www.nist.gov/oles/.

Registration: Members of the public wishing to attend the meeting must register by 5 p.m. Mountain Time on Monday, March 12, 2012 by sending an email request to Dereck Orr at dereck.orr@nist.gov or via phone at 303-497-5400.

Oral Comments: There will be 40 minutes set aside for public comment. Members of the public wishing to provide oral comments during the meeting on Thursday, March 15, 2012 will be provided up to a total of 8 minutes each (dependent on the number of commenters), and the order of commenters will be based on the order in which the request to provide comments was received. Requests to make oral comments should be submitted to Dereck Orr by 5 p.m. Mountain Time on Monday, March 12, 2012 via email at dereck.orr@nist.gov or via phone at 303-497-5400.

Written Comments: Comments also will be accepted electronically and may be emailed to dereck.orr@nist.gov. Hard copies of comments may be mailed to Dereck Orr, Department of Commerce, NIST, Building 1, Room 2209, 300 Broadway St., Boulder, CO 80305.

Dated: February 13, 2012.
Willie E. May,
Associate Director for Laboratory Programs.

[FR Doc. 2012-3839 Filed 2-16-12; 8:45 am]

BILLING CODE 3510-13-P